DEPARTMENT OF ENERGY

Federal Energy Regulatory Commission

[Docket No. CP09-2-000]

Columbia Gulf Transmission Company; Notice of Request Under Blanket Authorization

October 15, 2008.

Take notice that on October 7, 2008, Columbia Gulf Transmission Company (Columbia Gulf), 5151 San Felipe, Suite 2500, Houston, Texas, 77056 filed in docket number CP09-2-000, a prior notice request pursuant to sections 157.205 and 157.214 of the Commission's Regulations under the Natural Gas Act, and Columbia Gulf's blanket certificate issued in Docket No. CP83-496-000, for authorization to increase the horsepower on two compressor units: Unit 507 located at its Corinth Compressor Station in Alcorn County, Mississippi from 17,282 hp to 19.500 hp, increasing the total compression at the Corinth Compressor Station from 49,982 to 52,200 hp; and Unit 709 located at its Inverness Compressor Stations Humphreys County, Mississippi from 17,282 hp to 19.500 hp, increasing the total compression at the Inverness Compressor Station from 45,832 to 48,050 hp. The cost associated with the engine exchange and the proposed up-rate is estimated to be $2,593,000, all as more fully set forth in the application which is on file with the Commission and open to public inspection. The filing may also be viewed on the Web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Frederic J. George, Lead Counsel, Columbia Gulf Transmission Company, P.O. Box 1273, Charleston, West Virginia 25325-1273, at (304) 357-2359, fax (304) 357-3206 or by e-mail at fgeorge@nisource.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a) (1) (iii) and the instructions on the Commission's Web site (www.ferc.gov) under the “e-Filing” link.

Kimberly D. Bose,
Secretary.

[FR Doc. E8-25081 Filed 10-21-08; 8:45 am]

BILLING CODE 6717-01-P